DEPARTMENT OF THE INTERIOR

Bureau of Land Management

[NM-020-1430-ET; NMNM 103819]

Notice of Proposed Withdrawal and Opportunity for Public Meeting; New Mexico

AGENCY: Bureau of Land Management, Interior.

ACTION: Notice.

SUMMARY: The Bureau of Land Management (BLM) proposes to withdraw 4,484.16 acres of public land in Santa Fe and Rio Arriba Counties, New Mexico, in aid of legislation for the pueblos of Santa Clara and San Ildefonso land claim settlement. This notice closes the public land for up to 2 years from location under the United States mining laws. The public land will remain open to mineral leasing.

DATES: Comments must be received by May 16, 2002.

ADDRESSES: Comments should be sent to the Taos Field Office Manager, BLM, 226 Cruz Alta Road, Taos, New Mexico 87571-5983.

FOR FURTHER INFORMATION CONTACT: Lora Yonemoto, BLM Taos Field Office, 505-751-4709.

SUPPLEMENTARY INFORMATION: On November 30, 2001 a petition was approved allowing the Bureau of Land Management to file an application to withdraw the following described public land from location under the United States mining laws, subject to valid existing rights:

New Mexico Principal Meridian

T. 20 N., R. 7 E.,

Sec. 22, lots 1 to 7, inclusive, SWNE, S½NW, SW, and W½SE;

Sec. 23, S½;

Sec. 24, S½;

Sec. 25, lots 2 to 4, inclusive, 9, N­½, and N½S½;

Sec. 26, lots 1 and 2, N½, SW, and N½SE;

Sec. 27, lots 1 to 4, inclusive, W½E½, and W½

Sec. 34, lots 1 to 4, inclusive, W½E½, and W½;

Sec. 35, lots 1 to 4, inclusive, and W½.

T. 20 N., R. 8 E.,

Sec. 19, lots 8 to 11, inclusive;

Sec. 30, lots 2 to 5, inclusive, and lots 8 to 11, inclusive.

The area described contains approximately 4,484.16 acres in Rio Arriba and Santa Fe Counties.

The purpose of the proposed withdrawal is to protect the lands while legislation is being drafted to transfer these lands to the pueblos of Santa Clara and San Ildefonso as part of the pueblos' land claim settlement.

For a period of 90 days from the date of publication of the notice, all persons who wish to submit comments, suggestions, or objections in connection with the proposed withdrawal may present their views in writing to the Taos Field Office Manager of the BLM at the above address.

Notice is hereby given that an opportunity for a public meeting is afforded in connection with the proposed withdrawal. All interested persons who desire a public meeting for the purpose of being heard on the proposed withdrawal must submit a written request to the Taos Field Office Manager within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the public land will be segregated as specified above unless the application is denied or canceled or the legislation enacted or a withdrawal is approved prior to that date. The temporary uses which may be permitted during this segregative period are licenses, permits, cooperative agreements, and discretionary land use authorizations of a temporary nature with the approval of the authorized officer.

Dated: December 13, 2001.
Sam DesGeorges,
Assistant Taos Field Office Manager.

[FR Doc. 02-3689 Filed 2-14-02; 8:45 am]

BILLING CODE 4310-FB-P